DEPARTMENT OF COMMERCE

National Oceanic and Atmospheric Administration

[I.D. 121504E]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold public meetings in January 2005. The agenda topics for these meetings can be found under the SUPPLEMENTARY INFORMATION section of this notice.

DATES: The Council will convene on Wednesday, January 26, 2005, from 9 a.m. to 5 p.m., and will reconvene on Thursday, January 27, 2005, from 9 a.m. to 5 p.m., approximately.

ADDRESSES: The meetings will be held at the Best Western San Juan Airport Hotel located at the Luis MuÑoz Marín International Airport in Carolina, Puerto Rico.

FOR FURTHER INFORMATION CONTACT: Caribbean Fishery Management Council, 268 MuÑoz Rivera Avenue, Suite 1108, San Juan, Puerto Rico 00918-1920, telephone: (787) 766-5926.

SUPPLEMENTARY INFORMATION: The Council will hold its 117th regular public meeting to discuss the items contained in the following agenda:

January 26, 2005, 9 a.m. to 5 p.m.

• Call to Order

• Adoption of Agenda

• Consideration of 116th Council Meeting Verbatim Minutes

• Executive Director's Report

• Sustainable Fisheries Act (SFA) Document

January 27, 2005, 9 a.m. to 5 p.m.

• Continuation of Discussion on SFA Document

• Other Business

• Next Council Meeting

The meetings are open to the public, and will be conducted in English, however simultaneous translation (English to Spanish) will be provided. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or to request sign language interpretation and/other auxiliary aids, please contact Miguel A. Rolón at the Caribbean Fishery Management Council (see ADDRESSES) at least five days prior to the meeting date.

Dated: December 17, 2004.
Alan D. Risenhoover,
Acting Director, Office of Sustainable Fisheries, National Marine Fisheries Service.

[FR Doc. E4-3764 Filed 12-21-04; 8:45 am]

BILLING CODE 3510-22-S